DEPARTMENT OF HOMELAND SECURITY

Federal Emergency Management Agency

[Docket ID FEMA-2021-0002; Internal Agency Docket No. FEMA-B-2158]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below.

Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alaska: Anchorage | Municipality of Anchorage (20-10-0848P). | The Honorable Austin Quinn-Davidson, Mayor, Municipality of Anchorage, 632 West 6th Avenue, Suite 840, Anchorage, AK 99501. | Municipality of Anchorage, 4700 South Bargaw Street, Anchorage, AK 99507. | https://msc.fema.gov/portal/advanceSearch. | Nov. 5, 2021 | 020005
Arizona:
Maricopa | City of Surprise (21-09-0673P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Nov. 5, 2021 | 040053
Pinal | Unincorporated Areas of Pinal County (21-09-0194P). | The Honorable Stephen Q. Miller, Chairman, Board of Supervisors, Pinal County, P.O. Box 827, Florence, AZ 85132. | Pinal County, Engineering Division, 31 North Pinal Street Building F, Florence, AZ 85132. | https://msc.fema.gov/portal/advanceSearch. | Oct. 22, 2021 | 040077
California:
Riverside | Unincorporated Areas of Riverside County (21-09-0016P). | The Honorable Karen Spiegel, Chair, Board of Supervisors, Riverside County, 4080 Lemon Street, 5th Floor, Riverside, CA 92502. | Riverside County, Flood Control and Water Conservation District, 1995 Market Street, Riverside, CA 92501. | https://msc.fema.gov/portal/advanceSearch. | Nov. 26, 2021 | 060245
San Joaquin | City of Lathrop (20-09-0630P). | The Honorable Sonny Dhaliwal, Mayor, City of Lathrop, 390 Towne Centre Drive, Lathrop, CA 95330. | Community Development Department, Planning Division, 390 Towne Centre Drive, Lathrop, CA 95330. | https://msc.fema.gov/portal/advanceSearch. | Nov. 18, 2021 | 060738
Ventura | City of Simi Valley (21-09-0281P). | The Honorable Keith L. Mashburn, Mayor, City of Simi Valley, 2929 Tapo Canyon Road, Simi Valley, CA 93063. | City Hall, 2929 Tapo Canyon Road, Simi Valley, CA 93063. | https://msc.fema.gov/portal/advanceSearch. | Nov. 8, 2021 | 060421
Ventura | Unincorporated Areas of Ventura County (20-09-1626P). | The Honorable Linda Parks, Chair, Board of Supervisors, Ventura County, 800 South Victoria Avenue, Ventura, CA 93009. | Ventura County, Public Works Agency, 800 South Victoria Avenue, Ventura, CA 93009. | https://msc.fema.gov/portal/advanceSearch. | Oct. 21, 2021 | 060413
Colorado: Morgan | Unincorporated Areas of Morgan County (21-08-0019P). | Mr. Mark Arndt, District 1 Commissioner, Morgan County, P.O. Box 596, Fort Morgan, CO 80701. | Morgan County, Planning and Zoning Department, 218 West Kiowa Avenue, Fort Morgan, CO 80701. | https://msc.fema.gov/portal/advanceSearch. | Oct. 22, 2021 | 080129
Idaho:
Ada | City of Eagle (20-10-1292P). | The Honorable Jason Pierce, Mayor, City of Eagle, 660 East Civic Lane, Eagle, ID 83616. | City Hall, 660 East Civic Lane, Eagle, ID 83616. | https://msc.fema.gov/portal/advanceSearch. | Oct. 14, 2021 | 160003
Ada | City of Star (20-10-1292P). | The Honorable Trevor Chadwick, Mayor, City of Star, City Hall, 10769 West State Street, Star, ID 83669. | City Hall, 10769 West State Street, Star, ID 83669. | https://msc.fema.gov/portal/advanceSearch. | Oct. 14, 2021 | 160236
Ada | Unincorporated Areas of Ada County (20-10-1292P). | Mr. Rod Beck, Chairman, Ada County, Board of Commissioners, 200 West Front Street, Boise, ID 83702. | Ada County, Courthouse, 200 West Front Street, Boise, ID 83702. | https://msc.fema.gov/portal/advanceSearch. | Oct. 14, 2021 | 160001
Illinois: Will | Village of Bolingbrook (21-05-0627P). | The Honorable Mary Alexander-Basta, Mayor, Village of Bolingbrook, 375 West Briarcliff Road, Bolingbrook, IL 60440. | Village Hall, 375 West Briarcliff Road, Bolingbrook, IL 60440. | https://msc.fema.gov/portal/advanceSearch. | Oct. 28, 2021 | 170812
Florida:
Duval | City of Jacksonville (21-04-0683P). | The Honorable Lenny Curry, Mayor, City of Jacksonville, City Hall at St. James Building, 117 West Duval Street, Suite 400, Jacksonville, FL 32202. | City Hall, 117 West Duval Street, Room 100, Jacksonville, FL 32202. | https://msc.fema.gov/portal/advanceSearch. | Oct. 14, 2021 | 120077
St. Johns | Unincorporated Areas of St. Johns County (20-04-5575P). | Mr. Jeremiah Ray Blocker, Chair, St. Johns County, Board of County Commissioners, 500 San Sebastian View, St. Augustine, FL 32084. | St. Johns County, Administration Building, 4020 Lewis Speedway, St. Augustine, FL 32084. | https://msc.fema.gov/portal/advanceSearch. | Nov. 29, 2021 | 125147
St. Johns | Unincorporated Areas of St. Johns County (21-04-0683P). | Mr. Jeremiah Ray Blocker, Chair, St. Johns County, Board of County Commissioners, 500 San Sebastian View, St. Augustine, FL 32084. | St. Johns County, Administration Building, 4020 Lewis Speedway, St. Augustine, FL 32084. | https://msc.fema.gov/portal/advanceSearch. | Oct. 14, 2021 | 125147
Iowa: Story | City of Ames (21-07-0024P). | The Honorable John Haila, Mayor, City of Ames, 515 Clark Avenue, Ames, IA 50010. | City Hall, 515 Clark Avenue, Ames, IA 50010. | https://msc.fema.gov/portal/advanceSearch. | Oct. 21, 2021 | 190254
Kansas: Shawnee | City of Topeka (21-07-0131P). | The Honorable Michelle De La Isla, Mayor, City of Topeka, 215 Southeast 7th Street, Room 350, Topeka, KS 66603. | Engineering Division, 620 Southeast Madison Street, Topeka, KS 66603. | https://msc.fema.gov/portal/advanceSearch. | Oct. 12, 2021 | 205187
Michigan:
Oakland | City of Farmington Hills (20-05-4934P). | The Honorable Vicki Barnett, Mayor, City of Farmington Hills, 31555 West Eleven Mile Road, Farmington Hills, MI 48336. | City Hall, 31555 Eleven Mile Road, Farmington Hills, MI 48336. | https://msc.fema.gov/portal/advanceSearch. | Oct. 22, 2021 | 260172
Oakland | City of Novi (20-05-4934P). | The Honorable Bob Gatt, Mayor, City of Novi, Civic Center, 45175 Ten Mile Road, Novi, MI 48375. | Civic Center, 45175 Ten Mile Road, Novi, MI 48375. | https://msc.fema.gov/portal/advanceSearch. | Oct. 22, 2021 | 260175
Wayne | Charter Township of Brownstown (21-05-2424P). | Mr. Andrew Linko, Supervisor, Charter Township of Brownstown, Township Hall, 21313 Telegraph Road, Brownstown, MI 48183. | Charter Township Offices, 21313 Telegraph Road, Brownstone, MI 48183. | https://msc.fema.gov/portal/advanceSearch. | Nov. 18, 2021 | 260218
Minnesota:
Marshall | City of Oslo (21-05-2364P). | The Honorable Erika Martens, Mayor, City of Oslo, City Hall, P.O. Box 187, Oslo, MN 56744. | City Hall, 107 3rd Avenue East, Oslo, MN 56744. | https://msc.fema.gov/portal/advanceSearch. | Nov. 5, 2021 | 270272
Marshall | Unincorporated Areas of Marshall County (21-05-2364P). | Mr. Rolland Miller, Chairperson, Marshall County, Board of Commissioners, 26817 420th Avenue Northwest, Warren, MN 56762. | Marshall County, Courthouse, 208 East Colvin Avenue, Warren, MN 56762. | https://msc.fema.gov/portal/advanceSearch. | Nov. 5, 2021 | 270638
Nevada:
Clark | City of Henderson (21-09-0246P). | The Honorable Debra March, Mayor, City of Henderson, 240 South Water Street, Henderson, NV 89015. | Public Works Department, 240 South Water Street, Henderson, NV 89015. | https://msc.fema.gov/portal/advanceSearch. | Nov. 3, 2021 | 320005
Clark | Unincorporated Areas of Clark County (21-09-0246P). | The Honorable Marilyn Kirkpatrick, Chair, Board of Commissioners, Clark County, 500 South Grand Central Parkway, 6th Floor, Las Vegas, NV 89155. | Office of the Director of Public Works, 500 South Grand Central Parkway, 2nd Floor, Las Vegas, NV 89155. | https://msc.fema.gov/portal/advanceSearch. | Nov. 3, 2021 | 320003
Washoe | Unincorporated Areas of Washoe County (21-09-0392P). | The Honorable Bob Lucey, Chairman, Board of Commissioners, Washoe County, 1001 East 9th Street, Reno, NV 89512. | Washoe County, Administration Building, Department of Public Works, 1001 East 9th Street, Reno, NV 89512. | https://msc.fema.gov/portal/advanceSearch. | Nov. 10, 2021 | 320019
New Jersey: Passaic | Borough of Pompton Lakes (21-02-0381P). | The Honorable Michael Serra, Mayor, Borough of Pompton Lakes, 25 Lenox Avenue, Pompton Lakes, NJ 07442. | Municipal Building, 25 Lenox Avenue, Pompton Lakes, NJ 07442. | https://msc.fema.gov/portal/advanceSearch. | Oct. 25, 2021 | 345528
Texas: Dallas | Town of Highland Park (21-06-0509P). | The Honorable Margo Goodwin, Mayor, Town of Highland Park, 4700 Drexel Drive, Highland Park, TX 75205. | Engineering Department, 4700 Drexel Drive, Highland Park, TX 75205. | https://msc.fema.gov/portal/advanceSearch. | Nov. 22, 2021 | 480178
Virginia: Albemarle | Unincorporated Areas of Albemarle County (21-03-0174P). | Mr. Jeff Richardson, Albemarle County, Executive, 401 McIntire Road, Charlottesville, VA 22902. | Albemarle County, Department of Community Development, 401 McIntire Road, Charlottesville, VA 22902. | https://msc.fema.gov/portal/advanceSearch. | Nov. 5, 2021 | 510006
Wisconsin: Crawford | City of Prairie du Chien (21-05-1223P). | The Honorable Dave Hemmer, Mayor, City of Prairie du Chien, 214 East Blackhawk Avenue, Prairie du Chien, WI 53821. | City Hall, 214 East Blackhawk Avenue, Prairie du Chien, WI 53821. | https://msc.fema.gov/portal/advanceSearch. | Oct. 28, 2021 | 555573

[FR Doc. 2021-17217 Filed 8-11-21; 8:45 am]

BILLING CODE 9110-12-P